FEDERAL COMMUNICATIONS COMMISSION

[DA 14-249]

Notice of Suspension and Commencement of Proposed Debarment Proceedings; Schools and Libraries Universal Service Support Mechanism

AGENCY: Federal Communications Commission.

ACTION: Notice; Correction.

SUMMARY: The Federal Communications Commission published a document in the Federal Register on March 19, 2014, regarding a notice of suspension concerning Mr. Bryan J. Cahoon. The document contained the incorrect summary, dates, and supplementary information sections.

FOR FURTHER INFORMATION CONTACT: Joy Ragsdale, 202-418-1697.

Correction

In the Federal Register at 79 FR 15339, March 19, 2014, on page 15339, in the third column, and also on page 15340, the first column, to correct the “Summary”, the “Dates” and the “Supplementary Information” captions to read:

SUMMARY: The Enforcement Bureau (the “Bureau”) gives notice of Mr. Bryan J. Cahoon's suspension from the schools and libraries universal service support mechanism (or “E-Rate Program”). Additionally, the Bureau gives notice that debarment proceedings are commencing against him. Mr. Cahoon, or any person who has an existing contract with or intends to contract with him to provide or receive services in matters arising out of activities associated with or related to the schools and libraries support, may respond by filing an opposition request, supported by documentation.

DATES: Opposition requests must be received within 30 days from receipt of the suspension letter or July 17, 2014, whichever date comes first. The Bureau will decide any opposition request for reversal or modification of suspension or debarment within 90 days of its receipt of such requests.

SUPPLEMENTARY INFORMATION: The Bureau has suspension and debarment authority pursuant to 47 CFR 54.8 and 47 CFR 0.111(a)(14). Suspension will help to ensure that the party to be suspended cannot continue to benefit from the schools and libraries mechanism pending resolution of the debarment process. Attached is the suspension letter, DA 14-249, which was mailed to Mr. Cahoon and released on February 24, 2014. The complete text of the notice of suspension and commencement of proposed debarment proceedings is available for public inspection and copying during regular business hours at the FCC Reference Information Center, Portal II, 445 12th Street SW., Room CY-A257, Washington, DC 20554. In addition, the complete text is available on the FCC's Web site at http://www.fcc.gov. The text may also be purchased from the Commission's duplicating inspection and copying during regular business hours at the contractor, Best Copy and Printing, Inc., Portal II, 445 12th Street SW., Room CY-B420, Washington, DC 20554, telephone (202) 488-5300 or (800) 378-3160, facsimile (202) 488-5563, or via email http://www.bcpiweb.com.

Federal Communications Commission.
Theresa Z. Cavanaugh,
Chief, Investigations and Hearings Division, Enforcement Bureau.

[FR Doc. 2014-14164 Filed 6-16-14; 8:45 am]

BILLING CODE 6712-01-P